DEPARTMENT OF TRANSPORTATION

National Highway Traffic Safety Administration

[Docket No. DOT-NHTSA-2017-0104]

Notice and Request for Comments

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on December 28, 2017. Comments received from the Alliance of Automobile Manufacturers, Inc.

DATES: Comments must be submitted on or before April 19, 2018.

ADDRESSES: Send comments regarding the burden estimate, including suggestions for reducing the burden, to the Office of Management and Budget, Attention: Desk Officer for the Office of the Secretary of Transportation, 725 17th Street, NW, Washington, DC 20503.

FOR FURTHER INFORMATION CONTACT: Gary R. Toth, Office of Data Acquisitions (NSA-0100), (202) 366-5378, National Highway Traffic Safety Administration, Room W53-505, 1200 New Jersey Avenue SE, Washington, DC 20590. Please identify the relevant collection of information by referring to its OMB Control Number.

SUPPLEMENTARY INFORMATION:

Title: Crash Investigation Sampling System (CISS).

OMB Control Number: 2127-0706.

Type of Request: Collection of motor vehicle crash data.

Abstract: The collection of crash data that support the establishment and enforcement of motor vehicle regulations that reduce the severity of injury and property damage caused by motor vehicle crashes is authorized under the National Traffic and Motor Vehicle Safety Act of 1966 (Pub. L. 89-563, Title 1, Sec. 106, 108, and 112). The National Highway Traffic Safety Administration has been investigating high severity crashes and collecting crash data through its National Automotive Sampling System (NASS) Crashworthiness Data System (NASS-CDS) and Special Crash Investigation (SCI) programs. The NASS was designed in the 1970's to collect data. Due to population shifts and vehicle transformation, among many other changes since NASS was established, the crash population has changed in the country. At the same time, the data needs of the transportation community have significantly increased over the last three decades. The scope of traffic safety studies has also been expanding. For example, the primary focus of the original NASS design was to enhance crashworthiness by providing detailed information about crush damage, restraint system performance and injury mechanisms. In recent years, however, the transportation community has been increasingly more interested in adding data elements related to what happens before a crash and related crash avoidance safety countermeasures.

Recognizing the importance as well as the limitations of the past NASS system, NHTSA has undertaken a modernization effort to upgrade our data systems by improving the information technology infrastructure, updating the data we collect and reexamining the sample sites. The goal of this overall modernization effort was to develop a new crash data system that meets current and future data needs. The newly redesigned investigation-based acquisition system is a nationally-representative sample of passenger vehicle crashes. This newly-designed system, the Crash Investigation Sampling System (CISS), will focus on detailed investigation of passenger vehicle crashes. CISS was implemented in 2015 with a goal of thirty-two (32) sites fully operational by July of 2018.

For the investigation-based acquisition process, once a crash has been selected for investigation, crash technicians locate, visit, measure, and photograph the crash scene; locate, inspect, and photograph vehicles; conduct a telephone or personal interview with the involved individuals or surrogate; and obtain and record injury information received from various medical data sources. These data are used to describe and analyze circumstances, mechanisms, and consequences of serious motor vehicle crashes in the United States. The collection of interview data aids in this effort.

NHTSA published a notice in the Federal Register with a 60-day public comment period to announce this proposed information collection on December 28, 2017, Volume 82, Number 248.

Affected Public: Passenger Motor Vehicle Operators.

Estimated Number of Respondents: 9,450.

Frequency: Annual.

Estimated Total Annual Burden Hours: 5,605 hours.

Estimated Total Annual Burden Cost: $140,125.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. Chapter 35, as amended; and 49 CFR 1:48.

Terry T. Shelton,
Associate Administrator, National Center for Statistics and Analysis.

[FR Doc. 2018-05591 Filed 3-19-18; 8:45 am]

BILLING CODE 4910-59-P